DEPARTMENT OF HOUSING AND URBAN DEVELOPMENT

[Docket No. FR-4770-N-02; HUD-2005-0013]

Notice of Availability of Draft Changes to HUD Handbook 4350.3 REV-1, “Occupancy Requirements of Subsidized Multifamily Housing Programs” and Request for Comments

AGENCY: Office of the Assistant Secretary for Housing—Federal Housing Commissioner, HUD.

ACTION: Notice of availability and request for comments.

SUMMARY: This notice advises the public that HUD is revising Handbook 4350.3 REV-1, “Occupancy Requirements of Subsidized Multifamily Housing Programs.” HUD will make available a copy of the draft, revised handbook on the HUD Web site and invites interested parties to comment on the revisions.

DATES: Comment Due Date: August 9, 2005.

ADDRESSES: A copy of HUD Handbook 4350.3 REV-1, CHG-2, “Occupancy Requirements of Subsidized Multifamily Housing Programs” can be obtained from the HUD Web site at http://www.HUD.gov/offices/hsg/hsgmulti.cfm or by calling HUD's Distribution Center at (202) 401-8811. This is not a toll-free number. Interested persons may submit comments regarding this notice to the Department of Housing and Urban Development, Attention: 4350.3 REV-1 Change 2 Comments, Room 6134, 451 Seventh Street, SW., Washington, DC 20410-8000. Communications should refer to the above docket number and title. Comments may also be submitted by e-mail to: occupancy_handbookrevisions_ comments@HUD.gov.

FOR FURTHER INFORMATION CONTACT: Gail Williamson, Director, Housing Assistance Policy Division, Room 6138, 451 Seventh Street, SW., Washington, DC 20410-8000, telephone (202) 708-3000, extension 2473 (this is not a toll-free number). Hearing- or speech-impaired individuals may access this number via TTY by calling the toll-free Federal Information Relay Service at (800) 877-8339.

SUPPLEMENTARY INFORMATION: This notice announces that HUD is revising the handbook entitled, “Occupancy Requirements of Subsidized Multifamily Housing Programs” (Handbook 4350.3 REV-1). In order to improve the quality of the handbook, HUD will make available a copy of the draft, revised handbook on the HUD website and invites interested parties to comment on the revisions. The transmittal at the front of the revised handbook provides an explanation of the revisions, which are noted in the text by a double asterisk (**) at the beginning and ending of each revision.

A copy of HUD Handbook 4350.3 REV-1, CHG-2 will be available for a period of 14 calendar days beginning July 20, 2005, at the HUD Web site, http://www.HUD.gov/offices/hsg/hsgmulti.cfm. Members of the public without access to the World Wide Web may obtain a copy of HUD Handbook 4350.3 REV-1, CHG-2 by contacting HUD's Distribution Center at (202) 401-8811. This is not a toll-free number. The draft, revised handbook, once posted to the Web site, will be available for 14 calendar days. All comments are due on or before August 9, 2005.

Interested members of the public may submit comments either electronically or by overnight mail to the address listed in the ADDRESSES section above. To be most helpful, comments should identify specific page and paragraph references.

Dated: July 12, 2005.
Brian D. Montgomery,
Assistant Secretary for Housing—Federal Housing Commissioner.

[FR Doc. E5-3845 Filed 7-19-05; 8:45 am]

BILLING CODE 4210-27-P